DEPARTMENT OF AGRICULTURE

Federal Crop Insurance Corporation

Crop Insurance Education in Targeted States (Targeted States Program)

Announcement Type: Modification—Competitive Cooperative Agreements

This announcement modifies the Request for Application Notice published in the Federal Register, May 3, 2006 (71 FR 26033—26039). The Dates and Summary portions have been modified.

CFDA Number: 10.458.

DATES: Applications are due 5 p.m. EDT, August 22, 2006.

SUMMARY: The following paragraph has been added to the beginning of the Summary portion of the May 3, 2006, Federal Register Notice: The Risk Management Agency (RMA) did not receive any complete and valid application packages for the State of Massachusetts under the original Request for Application Notice published in the Federal Register on May 3, 2006, for the Crop Insurance Education in Targeted States Program (Targeted States Program). As a result, RMA is re-announcing its Funding Opportunity—Request for Applications under the Targeted States Program for the State of Massachusetts only. Applicants who previously submitted an application under the May 3, 2006, Targeted States Program for Massachusetts must submit new applications that meet all the requirements of the original Notice published in the Federal Register on May 3, 2006.

All other portions and sections of the full text Notice remain unchanged.

FOR FURTHER INFORMATION CONTACT: Applicants and other interested parties are encouraged to contact: Lon Burke, USDA-RMA-RME, phone: 202-720-5265, fax: 202-690-3605, E-mail: RMA.Risk-Ed@rma.usda.gov. You may also obtain information regarding this announcement from the RMA Web site at: http://www.rma.usda.gov/aboutrma/agreements/.

Dated: July 28, 2006.
Eldon Gould,
Manager, Federal Crop Insurance Corporation.

[FR Doc. E6-12749 Filed 8-4-06; 8:45 am]

BILLING CODE 3410-08-P